DEPARTMENT OF ENERGY

Federal Energy Regulatory Commission

[Project No. 12696-001]

Alaska Tidal Energy Company; Notice of Surrender of Preliminary Permit

March 19, 2008.

Take notice that Alaska Tidal Energy Company, permittee for the proposed Gastineau Channel Tidal Energy Project, has requested that its preliminary permit be terminated. The permit was issued on March 23, 2007, and would have expired on February 28, 2010.¹ The project would have been located in the Gastineau Channel in Juneau Borough, Alaska.

¹ 118 FERC ¶ 62,220.

The permittee filed the request on March 13, 2008, and the preliminary permit for Project No. 12696 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-6022 Filed 3-24-08; 8:45 am]

BILLING CODE 6717-01-P